DEPARTMENT OF JUSTICE

Notice of Lodging of Consent Decree Under the Comprehensive Environmental Response, Compensation and Liability Act

Notice is hereby given that on August 6, 2010, a proposed Consent Decree in United States v. Conroe Creosoting Company, et al., C.A. No. 4: 10-cv-02810 (S.D. Tex.), was lodged with the United States District Court for the Southern District of Texas. The Consent Decree resolves claims of the United States and the State of Texas against the Conroe Creosoting Company (“Conroe”) for recovery of response costs, pursuant to Section 107(a) of the Comprehensive Environmental Response, Compensation, and Liability Act, 42 U.S.C. 9607(a), and Section 361.197 of the Texas Solid Waste Disposal Act, Tex. Health & Safety Code § 361.197. Between 1946 and 1997 Conroe operated a wood-treating facility at the Conroe Creosoting Site, located in Montgomery County, Texas. As a result of these activities, the Site became contaminated with various hazardous substances. The United States and the State incurred response costs in connection with cleaning up the Site. In addition, pursuant to 28 U.S.C. 3304, 3306, and the Texas Uniform Fraudulent Transfer Act, Tex. Bus. Com. Code § 24.001, et seq., the Consent Decree resolves the United States' and the State's claims against Conroe and persons to whom some of Conroe's assets were improperly paid or transferred. The United States and the State contend that these payments or transfers were made or allowed by Conroe as a means of Conroe avoiding paying a debt (response costs) owed to the United States and the State.

Under the Consent Decree, defendant Conroe and the other persons named in the Complaint will make a $200,000 cash payment to the United States and the State in partial reimbursement of response costs incurred by the United States and the State. In addition, Conroe has agreed to sell several parcels of land its own, including the property constituting the Site, and to pay the proceeds therefrom to the United States and the State. Finally, Conroe has agreed to determine whether any insurance policies it has had over the years provide for recovery of response costs, to pursue claims under any applicable policies, and to pay any proceeds recovered through such policies to the United States and the State in accordance with the provisions of the Consent Decree.

The Department of Justice will receive for a period of thirty (30) days from the date of this publication comments relating to the Consent Decree. Comments should be addressed to the Acting Assistant Attorney General, Environment and Natural Resources Division, and either e-mailed to pubcomment-ees.enrd@usdoj.gov, or mailed to P.O. Box 7611, U.S. Department of Justice, Washington, DC 20044-7611, and should refer to United States v. Conroe Creosoting Company, et al., DOJ Reference No. 90-11-3-08937.

The Consent Decree may be examined at the Office of the United States Attorney, 515 Rusk Avenue, Suite 1102, Houston, Texas, and at U.S. EPA Region 6, 1445 Ross Avenue, Suite 1200, Dallas, Texas 75202. During the public comment period, the Consent Decree may also be examined on the following Department of Justice Web site: http://www.usdoj.gov/enrd/Consent_ Decrees.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy of the Consent Decree from the Consent Decree Library, please enclose a check in the amount of $14.50 (25 cents per page production costs) for a copy of the Consent Decree without the exhibits thereto, or $25.50 with all exhibits thereto. Make the check payable to the U.S. Treasury or, if by e-mail or fax, forward a check in the required amount to the Consent Decree Library at the stated address.

Maureen Katz,
Assistant Chief, Environmental Enforcement Section, Environment and Natural Resources Division.

[FR Doc. 2010-20079 Filed 8-13-10; 8:45 am]

BILLING CODE 4410-15-P